DEPARTMENT OF HEALTH AND HUMAN SERVICES

Health Resources and Services Administration

Sudden Unexpected Infant Death Prevention

AGENCY: Health Resources and Services Administration (HRSA), Department of Health and Human Services.

ACTION: Announcing period of performance extension with funding for the Sudden Unexpected Infant Death (SUID) Prevention Program.

SUMMARY: HRSA will provide additional award funds to the one recipient of the SUID Prevention Program with period of performance ending in fiscal year 2025 to extend the current period of performance by 12 months to continue the activities of the program related to reducing infant deaths.

FOR FURTHER INFORMATION CONTACT: Diane Pilkey, Senior Nurse Consultant, Division of Child Adolescent and Family Health, Maternal and Child Health Bureau, Health Resources and Services Administration, at dpilkey@hrsa.gov and 301-500-9637.

SUPPLEMENTARY INFORMATION:

Intended Recipient(s) of the Award: American Academy of Pediatrics (AAP).

Amount of Non-Competitive Award(s): One Award of $500,000.

Project Period: July 1, 2025, through June 30, 2026.

Assistance Listing (CFDA) Number: 93.110.

Award Instrument: Cooperative Agreement.

Authority: This non-competitive supplemental funding is authorized by 42 U.S.C. 701(a)(2) (title V, sec. 501(a)(2) of the Social Security Act).

Purpose/Justification: HRSA will provide a non-competitive supplement of $500,000 to the SUID Prevention Program recipient, AAP, to extend the period of performance by an additional year, July 1, 2025, to June 30, 2026, to connect families with the resources that they need and to help improve family capacity to practice safe sleep. This Program was awarded on July 1, 2022, for a 3-year period (HRSA 22-082). The purpose of the program is to reduce overall rates of SUID by supporting pediatric health care practitioners to provide evidence-based counseling and education to infant caregivers and families; to guide system improvements; and to identify and support policy changes that address state- and community-specific SUID risks. The awardee has demonstrated progress during this period and will be able to expand that progress if extended by 1 year.

Funds are available for award for this non-competitive supplement. A non-competitive supplement is necessary to ensure on time, high-quality implementation of best practices for reducing infant deaths that the current recipient is uniquely positioned to continue. The recipient is in good standing with current HRSA grant requirements and has been a leader in Sudden Infant Death Syndrome (SIDS) and SUID prevention for decades, starting with the initial Back to Sleep campaign in the 1990s that urged parents and caregivers to place infants to sleep supine following the emergence of data that supported this recommendation. More recently, the AAP Task Force on SIDS has published comprehensive recommendations for the prevention of SIDS, Accidental Suffocation and Strangulation in Bed, and other sleep-related deaths, based on a detailed and impartial analysis of all available evidence. In addition, AAP directs several initiatives aimed at improving child health outcomes.

The current recipient will use their existing infrastructure to maintain implementation without disruption and they are the only organization with a unique existing network of practicing pediatricians and related professionals who are part of a National Safe Sleep Champion Network, a network of pediatrician experts in safe sleep to promote safe sleep recommendations and education for providers to better serve families.

The recipient will be expected to ensure continued efforts around reducing infant deaths by disseminating and implementing best practices, increasing connections with state and local infant fatality review teams and AAP Chapters, supporting implementation of a community engagement toolkit, and expanding their National Safe Sleep Champion Network.

Thomas J. Engels,
Administrator.

[FR Doc. 2025-10738 Filed 6-12-25; 8:45 am]

BILLING CODE 4165-15-P